DEPARTMENT OF THE INTERIOR

National Park Service

Notice of Inventory Completion: New York University College of Dentistry, New York City, NY

AGENCY: National Park Service, Interior.

ACTION: Notice.

Notice is here given in accordance with the Native American Graves Protection and Repatriation Act (NAGPRA), 25 U.S.C. 3003, of the completion of an inventory of human remains in the possession of the New York University College of Dentistry, New York City, NY. The human remains were removed from Crab Creek Coulee, Grant County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by New York University College of Dentistry professional staff in consultation with representatives of the Confederated Tribes of the Colville Reservation, Washington; Confederated Tribes and Bands of the Yakama Nation, Washington; and Wanapum Band, a non-Federally recognized Indian group.

At an unknown date, human remains representing a minimum of one individual were removed from an unknown site on the Crab Creek Coulee, Grant County, WA, by Harlan Smith. At an unknown date, the human remains were acquired by C.B. Moore. In 1917, Mr. Moore donated the human remains to the Museum of the American Indian, Heye Foundation. In 1956, the human remains were transferred to Dr. Theodore Kazamiroff, New York University College of Dentistry. No known individual was identified. No associated funerary objects are present.

The Museum of the American Indian records list the locality of origin as Crab Creek Coulee, WA. The morphology of the human remains is consistent with Native American ancestry. The condition of the human remains suggests that they were removed from a Historic Period burial that probably dated to the 1800s.

Tribal representatives identified Crab Creek, Grant County, WA, as part of the ancestral territory of both the Wanapum and Sinkayuse. Historic records from the early 19th century document Wanapum and Sinkayuse villages in Grant County. The northern boundary of the Wanapum extended to Crab Creek, while the southern edge of the Sinkayuse territory extended to Crab Creek. The extremities of the territories were defined by diffuse boundaries, and boundaries shifted according to who lived in or utilized land along the creek. At the time, the people living in the region did not organize themselves according to a tribe in the modern-day sense. Organization was along family, clan, and village lines. Trading and intermarriage were common between villages and groups.

During the 19th century, some Wanapum became part of the Confederated Tribes and Bands of the Yakima Nation, Washington, while others remained part of the state-recognized Wanapum Band that stayed in their ancestral territory. The Sinkayuse relocated among the Confederated Tribes of the Colville Reservation, Washington. Today, all three groups maintain close relations and coordinate repatriations for human remains from Grant County.

Officials of New York University College of Dentistry have determined that, pursuant to 25 U.S.C. 3001 (9-10), the human remains described above represent the physical remains of one individual of Native American ancestry. Officials of New York University College of Dentistry also have determined that, pursuant to 25 U.S.C. 3001 (2), there is a relationship of shared group identity that can be reasonably traced between the Native American human remains and the Confederated Tribes of the Colville Reservation, Washington; Confederated Tribes and Bands of the Yakama Nation, Washington; and the Wanapum Band, a non-Federally recognized Indian group.

Representatives of any other Indian tribe that believes itself to be culturally affiliated with the human remains should contact Dr. Louis Terracio, New York University College of Dentistry, 345 East 24th St., New York, NY 10010, telephone (212) 998-9917, before August 6, 2009. Repatriation of the human remains to the Confederated Tribes of the Colville Reservation, Washington; Confederated Tribes and Bands of the Yakama Nation, Washington; and the Wanapum Band, a non-Federally recognized Indian group, may proceed after that date if no additional claimants come forward.

The New York University College of Dentistry is responsible for notifying the Confederated Tribes of the Colville Reservation, Washington; Confederated Tribes and Bands of the Yakama Nation, Washington; and Wanapum Band, a non-Federally recognized Indian group, that this notice has been published.

Dated: June 15, 2009
Sherry Hutt,
Manager, National NAGPRA Program.

[FR Doc. E9-16014 Filed 7-6-09; 8:45 am]

BILLING CODE 4312-50-S